DEPARTMENT OF HOUSING AND URBAN DEVELOPMENT

[Docket No. FR-5758-N-05]

60-Day Notice of Proposed Information Collection: Rural Innovation Fund Evaluation Data Collection

AGENCY: Office of the Assistant Secretary for Policy Development & Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 20, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Rural Innovation Fund Evaluation Data Collection.

OMB Approval Number: N/A.

Type of Request: New.

Form Number: None.

Description of the need for the information and proposed use: This information will be used in the evaluation of the Rural Innovation Fund (RIF) which is the successor program to the Rural Housing and Economic Development (RHED) Program. The RIF provides larger grant amounts and places a greater emphasis on leverage than the RHED. This evaluation aims to determine if these two major differences provide for economies of scale or program sustainability, and what the overall program outcomes and impacts are.

Respondents: Rural nonprofit housing and community development organizations and corporations and federally recognized Indian tribes, state housing finance agencies and state economic development agencies.

Information collection | Number of respondents | Frequency of response | Responses per annum | Burden hour per response | Annual burden hours | Hourly cost per response | Annual cost
RHED Telephone Interviews | 50 | 1 | 1 | 1.5 | 75 | $110 | $8250
RIFHED Telephone Interviews | 50 | 1 | 1 | 1.5 | 76.5 | 110 | 8415
Site Visits | 15 | 1 | 1 | 16 | 240 | 278 | 66720

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: 12 U.S.C. 1701z-1 Research and Demonstrations.

Dated: March 14, 2014.
Jean Lin Pao,
General Deputy Assistant Secretary for Policy Development and Research.

[FR Doc. 2014-06246 Filed 3-20-14; 8:45 am]

BILLING CODE 4210-67-P